DEPARTMENT OF TRANSPORTATION

Office of the Secretary

49 CFR Parts 27, 37, and 38

[Docket No. OST-2006-23985]

RIN 2105-AD54

Transportation for Individuals With Disabilities

AGENCY: Office of the Secretary (OST), U.S. Department of Transportation (DOT).

ACTION: Notice of Public Meeting and Extension of Comment period.

SUMMARY: The Department of Transportation is holding a public meeting on August 20, 2010, concerning the Department's pending rulemaking to amend its Americans with Disabilities Act (ADA) rules. In connection with the meeting, the comment period on this will be reopened briefly, from August 19-25, 2010.

DATES: The public meeting will be held on August 20, 2010. The reopened comment period on the rulemaking will extend from August 19 through August 25, 2010.

ADDRESSES: You may submit comments (identified by the agency name and DOT Docket ID Number OST-2006-23985) by any of the following methods:

• Federal eRulemaking Portal: Go to http://www.regulations.gov and follow the online instructions for submitting comments.

• Mail: Docket Management Facility: U.S. Department of Transportation, 1200 New Jersey Avenue, SE., West Building Ground Floor, Room W12-140, Washington, DC 20590-0001

• Hand Delivery or Courier: West Building Ground Floor, Room W12-140, 1200 New Jersey Avenue, SE., between 9 a.m. and 5 p.m. ET, Monday through Friday, except Federal holidays.

• Fax: 202-493-2251

Instructions: You must include the agency name (Office of the Secretary, DOT) and Docket number (OST-2006-23985) for this notice at the beginning of your comments. You should submit two copies of your comments if you submit them by mail or courier. Note that all comments received will be posted without change to http://www.regulations.gov, including any personal information provided, and will be available to internet users. You may review DOT's complete Privacy Act Statement in the Federal Register published on April 11, 2000 (65 FR 19477) or you may visit http://DocketsInfo.dot.gov.

Docket: For internet access to the docket to read background documents and comments received, go to http://www.regulations.gov. Background documents and comments received may also be viewed at the U.S. Department of Transportation, 1200 New Jersey Ave. SE., Docket Operations, M-30, West Building Ground Floor, Room W12-140, Washington, DC 20590, between 9 a.m. and 5 p.m., Monday through Friday, except Federal holidays.

FOR FURTHER INFORMATION CONTACT: Robert C. Ashby, Deputy Assistant General Counsel for Regulation and Enforcement, Department of Transportation, 1200 New Jersey Avenue, SE., Room W94-302, Washington, DC 20590; (202) 366-9310 (voice); (202) 366-7687 (TDD); bob.ashby@dot.gov (e-mail).

SUPPLEMENTARY INFORMATION: On February 27, 2006, the Department of Transportation (DOT or Department) issued a notice of proposed rulemaking (NPRM) that proposed to amend the Department's Americans with Disabilities Act (ADA) rule and related regulations (71 FR 9761). The proposed amendments concerned a variety of subjects, including integrated access for persons with disabilities to trains serving new or altered intercity and commuter rail station platforms and reasonable modifications to transit provider policies and practices. The NPRM also sought comment on several upcoming issues of interest concerning surface transportation accessibility. The extended comment period for this rulemaking ended June 16, 2006.

The Department is continuing to work towards a final rule based on this NPRM.

Recently, the Department received a request from the American Public Transit Association (APTA), one of the commenters on the NPRM, for a meeting concerning the portion of the rulemaking relating to reasonable modification. In light of the period of time that has elapsed since the original comment period and of a meeting held between representatives of disability community organizations and Federal Railroad Administration officials concerning the rail system accessibility portion of the rulemaking (a memorandum on the meeting has been placed in the docket), the Department has decided to grant APTA's request.

Consequently, the Department will hold a public meeting from 10 a.m.-1 p.m. on August 20, 2010, in the Department's conference center in its headquarters building at 1200 New Jersey Avenue, SE., Washington DC. Not only APTA, but also any other party wanting to discuss issues raised in the NPRM with Department of Transportation officials and staff, is invited to attend. A memorandum concerning the discussion at the meeting will be placed in the docket. To enable participants in the meeting or others to have responses to comments made at the meeting, or other comments they may wish to make, entered into the docket, we will briefly reopen the docket from August 19-25, 2010.

To facilitate the Department's administration of the meeting, we request that individuals planning to attend the meeting or call in to the meeting please contact the Office of the Assistant General Counsel for Regulation and Enforcement to indicate their interest. You may call 202-366-4723 for this purpose or e-mail laura.reeves@dot.gov. We thank participants for cooperation with this request.

Dated: Issued in Washington, DC this 27th day of July 2010.
Robert S. Rivkin,
General Counsel.

[FR Doc. 2010-19673 Filed 8-5-10; 11:15 am]

BILLING CODE 4910-9X-P